SECURITIES AND EXCHANGE COMMISSION

[Release No. 34-89819; File No. SR-BX-2020-027]

Self-Regulatory Organizations; Nasdaq BX, Inc.; Notice of Filing and Immediate Effectiveness of Proposed Rule Change to Decommission TradeInfo

September 10, 2020

Correction

In notice document 2020-20359, published on pages 57893-57895, in the issue of Wednesday, September 16, 2020, make the following correction:

On page 57895, in the second column, beginning on the 16th line, “October 7,

2020September 16, 2020” should read “October 7, 2020”.

[FR Doc. C1-2020-20359 Filed 10-2-20; 8:45 am]

BILLING CODE 1301-00-D